DEPARTMENT OF ENERGY

Federal Energy Regulatory Commission

[Project No. 2724-023 Ohio]

City of Hamilton, Ohio; Notice of Availability of Environmental Assessment

October 19, 2001.

In accordance with the National Environmental Policy Act of 1969 and the Federal Energy Regulatory Commission's (Commission) regulations, 18 CFR Part 380 (Order No. 486, 52 FR 47897), the Office of Energy Projects has reviewed the application for license for the City of Hamilton Hydroelectric Project, located on the Great Miami River in Butler County, and partially within the city limits of Hamilton, Ohio, and has prepared an Environmental Assessment (EA) for the project.

The EA contains the staff's analysis of the potential environmental impacts of the project and concludes that licensing the project, with appropriate environmental protective measures, would not constitute a major federal action that would significantly affect the quality of the human environment.

A copy of the EA is on file with the Commission and is available for public inspection. The EA may also be viewed on the web at http://www.ferc.gov using the “RIMS” link—select “Docket #” and follow the instructions (call 202-208-2222 for assistance).

For further information, contact Nick Jayjack at (202) 219-2825.

Linwood A. Watson, Jr.,
Acting Secretary.

[FR Doc. 01-26856 Filed 10-24-01; 8:45 am]

BILLING CODE 6717-01-P